POSTAL SERVICE

39 CFR Part 111

Adult Signature Services

AGENCY: Postal Service™.

ACTION: Final rule.

SUMMARY: The Postal Service is revising the Mailing Standards of the United States Postal Service, Domestic Mail Manual (DMM®) 503.8, to add a new extra service called Adult Signature. This new service has two available options: Adult Signature Required and Adult Signature Restricted Delivery.

DATES: Effective July 5, 2011.

FOR FURTHER INFORMATION CONTACT: Karen Key at 202-268-7492 or Richard Daigle at 202-268-6392.

SUPPLEMENTARY INFORMATION: On March 28, 2011, the Postal Regulatory Commission (PRC) approved Adult Signature as a new extra service which will provide a method for customers to obtain a signature (upon delivery) from an adult recipient who is 21 years of age or older. This new extra service will be available only to commercial and online mailers beginning June 5, 2011.

This is the first time the Postal Service is offering a service that includes verification of the age of the recipient at the time of delivery. These services will be available to commercial and online customers using Express Mail®, Priority Mail® (including Critical Mail™), Parcel Select® barcoded nonpresort, and Parcel Select Regional Ground mailpieces. The requirements for the two service offerings are:

• Adult Signature Required—requires the signature of someone 21 years of age or older at the recipient's address.

• Adult Signature Restricted Delivery—requires the signature of a specific addressee (or authorized agent), who must be 21 years of age or older.

Prior to signing for the mailpiece, the recipient must show a government-issued photo identification that includes his or her date of birth. Adult Signature mailpieces cannot be left at the address without first obtaining the signature of an adult who is 21 years of age or older.

Adult Signature Required and Adult Signature Restricted Delivery are only available for customers who pay for postage and applicable fees using any of these methods:

• Click-N-Ship®.

• USPS®-approved PC Postage® (registered end-users only).

• Permit imprint, if the customer electronically submits postage statements and mailing documentation.

• USPS-approved Information-Based Indicia (IBI) postage meters that print the IBI with the appropriate price marking and electronically transmit transactional data to USPS.

Technical specifications for privately printed Adult Signature labels are located in the Intelligent Mail Package Barcode Specification and the addendum to Publication 91, Addendum for Intelligent Mail Package Barcode (IMpb) and 3-digit Service Type Code, available on the RIBBS® Web site at http://ribbs.usps.gov.

Additionally, in combination with Express Mail or Priority Mail and postage paid by Click-N-Ship or PC Postage, Adult Signature will provide an optional delivery method for the mailing of cigarettes and smokeless tobacco under the “Exception for Certain Individuals” standard as described in DMM section 601.11.

All other requirements and conditions related to mailing cigarettes and smokeless tobacco products under the Prevent All Cigarette Trafficking Act (PACT) of 2009 remain in effect; such as:

• Each shipment must be presented via a face-to-face transaction with a postal employee.

• No Pickup on Demand or Carrier Pickup options are available.

• Each package must bear its own unique exception package markings.

While the minimum age to purchase tobacco in the state or locality where the shipment is tendered or delivered may be different from age 21, if Adult Signature is used, the recipient must be 21 years of age.

The Postal Service adopts the following changes to Mailing Standards of the United States Postal Service, Domestic Mail Manual (DMM), incorporated by reference in the Code of Federal Regulations. See 39 CFR 111.1.

List of Subjects in 39 CFR Part 111

Administrative practice and procedure, Postal Service.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM) as follows:

Mailing Standards of the United States Postal Service, Domestic Mail Manual (DMM)

* * * * *

200 Commercial Letters and Cards

* * * * *

220 Priority Mail

223 Prices and Eligibility

* * * * *

3.0 Basic Standards for Priority Mail

* * * * *

3.2 Additional Standards for Critical Mail Letters

[Delete the reference number and heading of 3.2.1, Definition, in its entirety, and move the text from 3.2.1 under 3.2.]

[Delete item 3.2.2, Extra Service with Critical Mail Letters, in its entirety.]

* * * * *

300 Commercial Flats

* * * * *

320 Priority Mail

323 Prices and Eligibility

* * * * *

3.0 Basic Standards for Priority Mail

* * * * *

3.2 Additional Standards for Critical Mail Flats

[Delete the reference number and heading of 3.2.1, Definition, in its entirety, and move the text from 3.2.1 under 3.2.]

[Delete item 3.2.2, Extra Service with Critical Mail Flats, in its entirety.]

* * * * *

500 Additional Mailing Services

503 Extra Services

1.0 Extra Services for Express Mail

1.1 Available Services

* * * * *

[Renumber current items 1.1.5 through 1.1.8 as 1.1.6 through 1.1.9 and add new 1.1.5 as follows:]

1.1.5 Adult Signature

Adult Signature Required and Adult Signature Restricted Delivery are available with Express Mail for mailers who pay commercial or online postage and applicable fees and produce qualified shipping labels that bear an Intelligent Mail package barcode.

* * * * *

3.0 Certified Mail

* * * * *

3.2 Basic Information

* * * * *

3.2.3 Additional Services

[Revise 3.2.3 as follows:]

The following services may be combined with Certified Mail if the applicable standards for the services are met and additional service fees are paid:

a. Return receipt (not available for Adult Signature).

b. Restricted delivery (not available for Adult Signature).

c. Adult Signature Required and Adult Signature Restricted Delivery (available only for Priority Mail, but not Critical Mail).

* * * * *

4.0 Insured Mail

* * * * *

4.2 Basic Information

* * * * *

4.2.4 Additional Services

[Revise the introductory text of 4.2.4 as follows:]

Insuring an item for more than $200.00 allows customers to purchase restricted delivery or return receipt. The following services may be combined with insurance if the applicable standards for the services are met and additional service fees are paid:

* * * * *

[Add new item 4.2.4f as follows:]

f. Adult Signature Required and Adult Signature Restricted Delivery are available for insured Express Mail, Priority Mail (including Critical Mail), Parcel Select barcoded nonpresort, and Parcel Select Regional Ground.

* * * * *

[Renumber 8.0 through 14.0 as new 9.0 through 15.0 and add new 8.0 as follows:]

8.0 Adult Signature

8.1 Prices

8.1.1 Adult Signature Fees and Postage

The fees for Adult Signature Required and Adult Signature Restricted Delivery are in addition to postage and other fees, and are charged per piece. See Notice 123—Price List.

8.1.2 Postage

The Adult Signature Required or Adult Signature Restricted Delivery fee must be paid in addition to the correct postage. The fee and postage may be paid with:

a. Click-N-Ship.

b. PC Postage.

c. Permit imprint, if the customer electronically submits postage statements and mailing documentation.

d. IBI postage meter.

8.1.3 Refund

Adult Signature Required and Adult Signature Restricted Delivery fees are refunded only if the USPS fails to provide the service.

8.2 Basic Information

8.2.1 Description

Adult Signature provides electronic confirmation of the delivery or attempted delivery of the mailpiece and, upon request, the recipient's signature. The service has two options: Adult Signature Required and Adult Signature Restricted Delivery. The recipient must furnish proof of age via a driver's license, passport, or other government-issued photo identification that lists age or date of birth prior to delivery. The USPS maintains a record of delivery (which includes the recipient's signature) for a specified period of time.

8.2.1.1 Adult Signature Required

Adult Signature Required provides delivery to a person who is confirmed to be 21 years of age or older. Upon delivery, an adult who is 21 years of age or older must provide a driver's license, passport, or other government-issued photo identification that lists age or date of birth and provide a signature for receipt of the mailpiece.

8.2.1.2 Adult Signature Restricted Delivery

Adult Signature Restricted Delivery provides the same service as Adult Signature Required with the additional restriction of limiting delivery to a specific addressee or authorized agent who is 21 years of age or older. If the specific addressee is not 21 years of age or older, the mailpiece will be returned to sender.

8.2.2 Obtaining Service

Customers may obtain Adult Signature Required and Adult Signature Restricted Delivery by paying postage (see 8.1.2) and producing qualified shipping labels with Intelligent Mail package barcodes.

8.2.3 Eligible Matter

Adult Signature Required and Adult Signature Restricted Delivery are available for:

a. Express Mail.

b. Priority Mail (including Critical Mail).

c. Parcel Select barcoded nonpresort.

d. Parcel Select Regional Ground.

8.2.4 Ineligible Matter

Adult Signature Required and Adult Signature Restricted Delivery are not available for:

a. First-Class Mail.

b. Standard Mail.

c. Package Services.

d. Periodicals.

e. Parcel Select destination entry, NDC Presort, and ONDC presort pieces.

f. Mail addressed to restricted APO, FPO, and DPO destinations.

g. Mail addressed to the Department of State in accordance with 703.3.

h. Mail addressed to ZIP Codes in the following U.S. territories or Freely Associated States:

ZIP CODE | TWO-LETTER STATE ABBREVIATION | CITY | TERRITORY, POSSESSION OR FREELY ASSOCIATED STATE
96939 | PW | PALAU | PALAU.
96940 | PW | PALAU | PALAU.
96941 | FM | POHNPEI | FEDERATED STATES OF MICRONESIA.
96942 | FM | CHUUK | FEDERATED STATES OF MICRONESIA.
96943 | FM | YAP | FEDERATED STATES OF MICRONESIA.
96944 | FM | KOSRAE | FEDERATED STATES OF MICRONESIA.
96960 | MH | MAJURO | MARSHALL ISLANDS.
96970 | MH | EBEYE | MARSHALL ISLANDS.

8.2.5 Confirmation of Delivery

Confirmation of delivery information for Adult Signature is available as follows:

a. Information by article number can be retrieved at http://www.usps.com or by calling 800-222-1811. A letter providing evidence of delivery may be provided via fax, e-mail, or mail upon request.

b. Letters providing evidence of delivery can be obtained in CD-ROM or Signature Extract File formats. For additional information, see Publication 80, Bulk Proof of Delivery Program.

8.2.6 Additional Services

Adult Signature may also be combined with:

a. Certified Mail (available with Priority Mail, but not Critical Mail).

b. Insured Mail.

c. Hold for Pickup.

1. Express Mail (commercial mail only, see 413.4.2.4 and 413.4.3.4).

2. Priority Mail (excluding Critical Mail).

3. Parcel Select barcoded nonpresort.

4. Parcel Select Regional Ground.

8.3.0 Basic Delivery Standards

Items with Adult Signature require a recipient who is 21 years of age or older to sign at the time of delivery.

8.3.1 Additional Delivery Conditions

Mail endorsed “Adult Signature Required” is delivered to anyone who is confirmed to be 21 years of age or older and provides a signature at the time of delivery. Mail endorsed “Adult Signature Restricted Delivery” is delivered only to the addressee or authorized agent who is confirmed to be 21 years of age or older. If the specific addressee is not 21 years of age or older, the mailpiece will be returned to sender. Conditions in 7.4 also apply to Adult Signature Restricted Delivery items.

8.3.2 Identification

The USPS requires a driver's license, passport, or other government-issued photo identification that lists age or date of birth to provide proof of age for Adult Signature Required or proof of age and identity for Adult Signature Restricted Delivery.

8.3.3 Agent Authorization

An addressee who regularly receives any mail that includes a restricted delivery may authorize an agent to accept mail on their behalf by using Form 3801 or by letter to the postmaster. The authorized agent must be 21 years of age or older. The addressee must make the notation “this authorization is extended to include Adult Signature Restricted Delivery mail” on Form 3801 (in the area for signatures of authorized agents) or in the letter to the postmaster. If the Post Office has no standing delivery order or letter on file, a Form 3849, completed by the addressee, may be left for this authorization. The addressee enters the name of the agent on the back of Form 3849 in the space provided and signs the form. For receipt of the article, the agent must sign on the back of the form.

8.4.0 Privately Printed Labels

Technical specifications for privately printed Adult Signature labels is located in the Intelligent Mail Package Barcode Specification and the addendum to Publication 91, Addendum for Intelligent Mail Package Barcode (IMpb) and 3-digit Service Type Code, available on the RIBBS Web site at http://ribbs.usps.gov.

8.5.0 Where To Mail

Except for shipments of cigarettes and smokeless tobacco by certain individuals under 601.11, which requires mailers to present items at a retail counter, mailers may deposit mailpieces (not bearing a permit imprint) with Adult Signature at a Post Office lobby drop, collection box, or with a USPS carrier. Mail bearing a permit imprint must be deposited and accepted at the Post Office that issued the permit, at a time and place designated by the postmaster, except as otherwise provided for plant-verified drop shipments.

8.6.0 Firm Sheets—Three or More Pieces

If three or more mailpieces are presented for mailing at one time, the mailer may use Form 3877. Privately printed or computer-generated firm sheets that contain the same information as Form 3877 may be used if approved by the local postmaster. The mailer may omit columns on Form 3877 that are not applicable to Adult Signature. Required elements are the package identification code (PIC), address, 5-digit destination ZIP Code, and applicable fees. To obtain firm sheets receipted by the USPS, the mailer must present the firm sheets with the mailpieces at the time of mailing. Alterations must be initialed by the mailer and accepting postal employee. All unused portions of the addressee column must be obliterated with a diagonal line.

* * * * *

508 Recipient Services

* * * * *

7.0 Hold for Pickup

* * * * *

7.2 Basic Information

* * * * *

7.2.6 Extra Services

Hold for Pickup may be combined with:

* * * * *

[Insert new items 7.2.6d as follows:]

d. Adult Signature Required and Adult Signature Restricted Delivery

* * * * *

600 Basic Standards for All Mailing Services

601 Mailability

* * * * *

11.0 Cigarettes and Smokeless Tobacco

* * * * *

11.6 Exception for Certain Individuals

* * * * *

11.6.2 Mailing

* * * Each mailing under the “certain individuals” exception must:

[Revise 11.6.2a as follows:]

a. Be entered as Priority Mail with an Adult Signature extra service (see 503.8), Express Mail with an Adult Signature extra service or Express Mail with Hold for Pickup service (waiver of signature and pickup services not permitted); unless shipped to APO/FPO/DPO addresses under 11.6.4.

* * * * *

700 Special Standards

703 Nonprofit Standard Mail and Other Unique Eligibility

* * * * *

3.0 Department of State Mail

* * * * *

3.2 Conditions for Authorized Mail

* * * * *

3.2.6 Extra Services

* * * (Mailers may request other extra services under 503.)

* * * * *

[Add new item 3.2.6f as follows:]

f. Adult Signature Required and Adult Signature Restricted Delivery

* * * * *

We will publish an appropriate amendment to 39 CFR part 111 to reflect these changes.

Neva R. Watson,
Attorney, Legislative.

[FR Doc. 2011-13029 Filed 5-25-11; 8:45 am]

BILLING CODE 7710-12-P